DEPARTMENT OF COMMERCE

International Trade Administration

[Application No. 88-10A16]

Export Trade Certificate of Review

ACTION: Notice of application (#88-10A16) to amend the Export Trade Certificate of Review Issued to Wood Machinery Manufacturers of America.

SUMMARY: Export Trading Company Affairs, International Trade Administration, Department of Commerce, has received an application to amend an Export Trade Certificate of Review. This notice summarizes the proposed amendment and requests comments relevant to whether the Certificate should be issued.

FOR FURTHER INFORMATION CONTACT: Jeffrey Anspacher, Director, Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021-X, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 88-10A16.”

The Wood Machinery Manufacturers of America's original Certificate was issued on February 3, 1989 (54 FR 6312, February 9, 1989), and last amended on August 8, 2005 (70 FR 47178, August 12, 2005). A summary of the current application for an amendment follows.

Summary of the Application

Applicant: Wood Machinery Manufacturers of America (“WMMA”), 100 North 20th Street, 4th Floor, Philadelphia, PA 19103-1443.

Contact: Harold Zassenhaus, Export Consultant, Telephone: (301) 652-0693.

Application No.: 88-10A16.

Date Deemed Submitted: April 10, 2008.

Proposed Amendment: WMMA seeks to amend its Certificate to:

1. Add the following company as a new “Member” of the Certificate within the meaning of section 325.2(l) of the Regulations (15 CFR 325.2(l)): Mattison Rotary Lathes, LLC, La Center, Kentucky; Safety Speed Cut Manufacturing Company, Inc., Ham Lake, Minnesota; Western Cutterheads, Inc., La Center, Kentucky.

2. Reinstate as a “Member” of the Certificate within the meaning of section 325.2(l) of the Regulations (15 CFR 325.2(l)): The Original Saw Company (“OSC”), Britt, Iowa. OSC ceased to be a Member on April 12, 2007, when WMMA submitted an annual report that relinquished OSC's membership. WMMA seeks to reinstate OSC as a Member of the Certificate.

3. Delete the following company as a Member of WMMA's Certificate: Warsaw Machinery, Inc., Warsaw, Indiana.

Dated: April 15, 2008.
Jeffrey C. Anspacher,
Director, Export Trading Company Affairs.

[FR Doc. E8-8521 Filed 4-18-08; 8:45 am]

BILLING CODE 3510-DR-P